DEPARTMENT OF HOMELAND SECURITY

Federal Emergency Management Agency

[Docket ID FEMA-2012-0014]

RP9580.210, Personal Assistance Services in Shelters Fact Sheet

AGENCY: Federal Emergency Management Agency, DHS.

ACTION: Notice of availability; request for comments.

SUMMARY: The Federal Emergency Management Agency (FEMA) is accepting comments on Recovery Fact Sheet RP9580.210, Personal Assistance Services in Shelters. The purpose of this new fact sheet is to provide clarification on the eligibility of personal assistance services in congregate and transitional shelters under the Category B, Emergency Protective Measures provision of FEMA's Public Assistance Program.

DATES: Comments must be submitted by August 9, 2012.

ADDRESSES: Comments must be identified by docket ID FEMA-2012-0014 and may be submitted by one of the following methods:

Federal eRulemaking Portal: http://www.regulations.gov. Follow the instructions for submitting comments. Please note that this proposed fact sheet is not a rulemaking and the Federal Rulemaking Portal is being utilized only as a mechanism for receiving comments.

Mail: Regulatory Affairs Division, Office of Chief Counsel, Federal Emergency Management Agency, Room 835, 500 C Street SW., Washington, DC 20472-3100.

FOR FURTHER INFORMATION CONTACT: Lu Juana Richardson, Public Assistance Division, via email at LuJuana.Richardson@dhs.gov, by phone (202) 646-3834, or facsimile at (202) 646-3288, or by mail Federal Emergency Management Agency, Public Assistance Division, Room 408-67, 500 C Street SW., Washington, DC 20472.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link on the homepage of www.regulations.gov.

You may submit your comments and material by the methods specified in the ADDRESSES section above. Please submit your comments and any supporting material by only one means to avoid the receipt and review of duplicate submissions.

Docket: The proposed fact sheet is available in docket ID FEMA-2012-0014. For access to the docket to read background documents or comments received, go to the Federal eRulemaking Portal at http://www.regulations.gov, click on “Advanced Search,” then enter “FEMA-2012-0014” in the “By Docket ID” box, then select “FEMA” under “By Agency,” and then click “Search.” Submitted comments may also be inspected at FEMA, Office of Chief Counsel, Room 835, 500 C Street SW., Washington, DC 20472.

II. Background

The fact sheet, RP9580.210, Personal Assistance Services in Shelters provides clarification on the eligibility of personal assistance services in congregate and transitional shelters under the Category B, Emergency Protective Measures provision of the FEMA's Public Assistance Program. FEMA will reimburse eligible applicants' reasonable costs associated with the provision of personal assistance services to persons with disabilities in congregate and transitional shelters. Personal assistance services include but, are not limited to, caring for self (grooming, eating, bathing, toileting, dressing and undressing), walking, transferring (moving to and or from a wheelchair or cot), taking medicines, communicating and accessing programs and services.

The proposed fact sheet does not have the force or effect of law.

FEMA seeks comment on the proposed fact sheet, which is available online at http://www.regulations.gov in docket ID FEMA-2012-0014. Based on the comments received, FEMA may make appropriate revisions to the proposed fact sheet. Although FEMA will consider any comments received in the drafting of the final fact sheet, FEMA will not provide a response to comments document. When or if FEMA issues a final fact sheet, FEMA will publish a notice of availability in the Federal Register and make the final fact sheet available at http://www.regulations.gov. The final fact sheet will not have the force or effect of law.

Authority: 42 U.S.C. 5121-5207.

David J. Kaufman,
Director, Office of Policy and Program Analysis, Federal Emergency Management Agency.

[FR Doc. 2012-16861 Filed 7-9-12; 8:45 am]

BILLING CODE 9111-23-P